NUCLEAR REGULATORY COMMISSION

[Docket No. 50-423-LA-3, ASLBP No. 00-771-01-LA-R]

Atomic Safety and Licensing Board, Before Administrative Judges: Charles Bechhoefer, Chairman, Dr. Richard F. Cole, Dr. Charles N. Kelber; In the Matter of Dominion Nuclear Connecticut, Inc. (Millstone Nuclear Power Station, Unit No. 3; Facility Operating License NPF-49); Notice of Filing Schedules and Oral Argument

February 4, 2002.

This proceeding involves the proposed increase in capacity (through the addition of high-density storage racks) of the spent fuel storage pool of the Millstone Nuclear Power Station, Unit No. 3, in New London County, Connecticut. The proceeding is governed by the procedures of 10 CFR part 2, subpart K (10 CFR 2.1101-2.1117).

Notice is hereby given that the oral argument prescribed by 10 CFR part 2, subpart K, 2.1109 and 2.1113, will take place at the Best Western Sovereign Hotel, 9 Whitehall Avenue, Mystic, CT, on Tuesday, April 2, 2002, beginning at 9:30 a.m.

Under 10 CFR 2.1113, by Monday, March 18, 2002 (15 days prior to the oral argument as set forth above), each party, including the NRC Staff, shall submit a detailed written summary of all the facts, data, and arguments which are known to the party at that time and on which the party proposes to rely at the oral argument either to support or refute the existence of a genuine and substantial dispute of fact. Each party shall also submit all supporting facts and data in the form of sworn written testimony or other sworn written submission.

Each party's written summary and supporting information shall be simultaneously served on all other parties. In that connection, service of paper copies is currently required by the NRC rules (see 10 CFR 2.708, 2.712), but the Licensing Board requests the parties additionally to provide electronic copies of their filings by e-mail, where feasible, on the same schedule set forth for paper filings.

To complete service on members of the Licensing Board and other parties by e-mail transmission, a party should (a) send the filing (which should include the certificate of service) as a file attached to an e-mail message directed to each of the Licensing Board members (Internet addresses: cxb2@nrc.gov; rfc1@nrc.gov; and cnk@nrc.gov), and (b) send paper conforming copies that same date by regular mail, with the copies to judges addressed to each Licensing Board member at: Atomic Safety and Licensing Board Panel, U.S. Nuclear Regulatory Commission, Washington, DC 20555-0001. For regular mail service to Board members, the NRC Staff may use the NRC internal mail system (Mail Stop T-3 F23) in lieu of first class mail.

If a party has a pleading it wishes to send by e-mail that includes attachments it is unable to convert to electronic form, it should do one of the following: (a) If the attachments the party is unable to convert to electronic form are fifteen pages or less, contemporaneous with the transmission of the pleading by e-mail the attachments should be sent by a separate facsimile transmission. The e-mail and facsimile transmissions should note that separate transmission modes are being used. The paper conforming copies of the pleading and attachments should be sent to each of the Licensing Board members by regular mail at the address listed above; (b) If the attachments the party is unable to convert to electronic form are more than fifteen pages, the pleading should be sent by e-mail and the paper conforming copy of the pleading with the attachments should be sent to each of the Licensing Board members by express mail or other means that will ensure delivery on the next business day. The e-mail should note that there will be next-day service of the pleading with the attachments.

Parties may also elect to complete their March 18, 2002, filing by hand delivery or facsimile transmission. To complete service on members of the Licensing Board by facsimile transmission, a party should (a) send one copy by rapifax to the attention of members of the Licensing Board at (301) 415-5599 (verification (301) 415-7550); and (b) that same date, send conforming copies to each of the Licensing Board members by regular mail, at the address listed above.

As set forth in the February 9, 2000, Notice of Hearing for this proceeding, see 65 FR 7573 (Feb. 15, 2000), the Atomic Safety and Licensing Board, pursuant to 10 CFR 2.715(a), is authorized to entertain limited appearance statements from any person who is not a party to the proceeding, for the purpose of stating his or her views on the issues involved in this proceeding. Because oral limited appearance statements were heard on several occasions earlier in the proceeding, they will not be entertained at this session of the hearing. Written statements may be submitted at any time during the proceeding to the Office of the Secretary, Rulemaking and Adjudications Staff, U.S. Nuclear Regulatory Commission, Washington, DC 20555. A copy of such statement should also be served on the Chairman of this Atomic Safety and Licensing Board, T-3 F23, U.S. Nuclear Regulatory Commission, Washington, DC 20555, or cxb2@nrc.gov. Although these statements are not testimony or evidence and do not become part of the decisional record, they may assist the Licensing Board and/or the parties in their consideration of matters at issue in this proceeding.

Documents related to this proceeding, issued prior to December 1, 1999, are available in microfiche form (with print form available on one-day recall) for public inspection at the Commission's Public Document Room (PDR), Room O-1 F21, NRC One White Flint North, 11555 Rockville Pike, Rockville, Maryland 20852-2738. Documents issued after November 1, 1999, are available electronically through the Agencywide Documents Access and Management System (ADAMS), with access to the public through NRC's Internet Web site (Public Electronic Reading Room Link, <http://www.nrc.gov/reading-rm/adams.html>). The PDR and many public libraries have terminals for public access to the Internet.

Dated at Rockville, Maryland, this 4th day of February, 2002.
For the Atomic Safety and Licensing Board.
Charles Bechhoefer,
Chairman, Administrative Judge.

[FR Doc. 02-3106 Filed 2-7-02; 8:45 am]

BILLING CODE 7590-01-P